DEPARTMENT OF HEALTH AND HUMAN SERVICES

Centers for Disease Control and Prevention

National Institute for Occupational Safety and Health Meeting

The National Institute for Occupational Safety and Health (NIOSH) announces the following meeting:

Name: NIOSH B Reader Certification Program: Looking to the Future.

Date and Time: 1-5 p.m., March 4, 2004.

Place: Fairfax Ballroom, Courtyard Marriott, 1960-A Chain Bridge Road, McLean, Virginia.

Status: This meeting is hosted by NIOSH and will be open to the public, limited only by the space available. The meeting room will accommodate approximately 100 people. An opportunity to provide comments regarding the NIOSH B Reader Program will be given.

Requests to make comments at this public meeting must be made by completing the online registration form or by sending the completed form by fax to (304) 285-6058. The registration form may also be obtained on the NIOSH homepage at http://www.cdc.gov/niosh by selecting Conferences and then the event, or by calling (304) 285-5724. All requests to speak should include the name, mailing and e-mail addresses, telephone number, relevant business affiliations of the speaker, and a brief outline of the content of the comments. No audio-visual aids (other than a microphone) will be available, however, speakers may wish to provide printed copies of their presentations for distribution. Presentations will be strictly limited to a maximum of 5 minutes. After reviewing all requests, NIOSH will notify each speaker of the order and approximate timing of the presentations. Speakers who are not ready when the preceding speaker has finished will be skipped, and the remaining speakers will be heard in order. At the conclusion of the meeting, as time permits, an attempt will be made to include presentations by scheduled speakers who missed their assigned slot. Attendees who wish to speak but did not submit a prior request also may be given this opportunity at the conclusion of the meeting, at the discretion of the presiding officer.

Interested parties may make hotel reservations directly with the Courtyard Marriott, 1960-A Chain Bridge Road, McLean, VA, 22102, telephone, (703) 790-0207, before the cut-off date of February 1, 2004. A special rate has been negotiated for meeting guests of $150.00 per night. The NIOSH B Reader Meeting must be referenced to receive these special rates.

Comments on the topics presented in this notice and at the meeting should be mailed to the NIOSH Docket Office, Robert A. Taft Laboratories, M/S C34, 4676 Columbia Parkway, Cincinnati, Ohio 45226, telephone: (513) 533-8303, fax: (513) 533-8285. Comments may also be submitted by e-mail to niocindocket@cdc.gov. E-mail attachments should be formatted as WordPerfect 6/7/8/9 or Microsoft Word. Comments should be submitted no later than April 5, 2004, and should reference Docket Number NIOSH-015, B Reader Program, in the subject heading.

Purpose: Chest radiographic imaging is a widely applied and important tool for assessing lung health in clinical medicine, research investigations, hazard evaluations, and medical monitoring of workers exposed to silica, asbestos, coal, beryllium, and other dusts capable of producing occupational pneumoconiosis. Valid reproducible categorization of chest radiographic images requires close adherence to standard methods of radiograph classification and adoption of procedures for quality assurance. The International Labour Office (ILO) (Geneva) has for many years provided a standardized system for classification of chest radiographs for pneumoconiosis, including specification of procedures for obtaining images. The ILO system has been widely used by physicians and epidemiologic researchers in the investigation of work-related respiratory hazards.

Under the U.S. Code of Federal Regulations [42 CFR part 37], since 1970, chest radiographic examinations have been provided to underground coal miners at approximate five year intervals. As part of this mandated Coal Workers' Health Surveillance Program (CWHSP), NIOSH arranges for the determination of the presence and degree of dust-related changes on those films by physicians who have demonstrated proficiency in the ILO system. NIOSH developed and currently administers the B Reader Certification Program, a unique quality assurance program for training and certifying physicians who classify chest radiographs of pneumoconiosis. Under this Program, physicians who wish to obtain B Reader Certification must successfully complete an extensive initial examination. To demonstrate ongoing competence and maintain certification, every four years each individual who passed the initial examination must complete a recertification examination. Because the B Reader Certification Program objectively documents proficiency in the evaluation of lung images for occupational disease, it has attained high visibility in the U.S. and throughout the world. The Program continues to have important impacts on occupational lung disease research, surveillance, clinical practice, regulation, and litigation. Numerous research studies and hazard evaluations have relied upon the classification of chest radiographs by certified B Readers as a useful health outcome in the investigation and assessment of occupational health risks. State-based surveillance programs have utilized B Reader classifications as a criterion for identifying silicosis cases. The Occupational Safety and Health Administration (OSHA) asbestos standard (§ 1910.1001, App. E) requires that roentgenograms be interpreted and classified only by a B Reader, a board eligible/certified radiologist, or an experienced physician with known expertise in pneumoconioses. OSHA also specifies B Readers and the ILO classification in its safety and health standards for general industry (§ 1910.1001, App. E), construction (§ 1926.1101, App. E), and shipyard employment (§ 1915.1001, App. E).

The ILO, with NIOSH involvement and support, has recently completed a revision of the classification system (ILO 2000). Additionally, in the years since the development of the B Reader Certification process, the field of professional competency testing, as well as the field of radiology, have experienced considerable advances in knowledge, techniques, and methodology. The B Reader Certification Program has not been substantially revised since its first development, and would benefit from critical evaluation and modification in order to assure optimal test validity, reliability, and efficiency, and overall effectiveness of the Program. In order for NIOSH to maintain the B Reader Program as a contemporary, relevant, and effective quality assurance program for the classification of chest radiographs for occupational lung disease research and prevention, and to assure the Program is adherent to the ILO 2000 system, ongoing refinements and modifications are required to the B Reader examinations and related training activities and materials. This open meeting is intended to serve as an important additional step in the continuing evolution and improvement of the NIOSH B Reader Program.

FOR FURTHER INFORMATION CONTACT: CWHSP, 1095 Willowdale Road, Morgantown, West Virginia 26505-2888, Telephone: (304) 285-6263/5724, Fax: (304) 285-6058, E-mail: CWHSP@cdc.gov.

The Director, Management Analysis and Services Office, has been delegated the authority to sign Federal Register notices pertaining to announcements of meetings and other committee management activities, for both the Centers for Disease Control and Prevention and the Agency for Toxic Substances and Disease Registry.

Dated: November 21, 2003.
Alvin Hall,
Director, Management Analysis and Services Office, Centers for Disease Control and Prevention.

[FR Doc. 03-29630 Filed 11-25-03; 8:45 am]

BILLING CODE 4163-19-P